DEPARTMENT OF AGRICULTURE

Forest Service

Sparring Bulls EIS; Kootenai National Forest, Lincoln County, MT

AGENCY: Forest Service, USDA.

ACTION: Notice of intent to prepare an environmental impact statement.

SUMMARY: The Forest Service will prepare an Environmental Impact statement (EIS) to disclose the environmental effects of commercial and non-commercial vegetation management, prescribed burning, and watershed improvement activities which include intermittent stored service work or decommissioning of system roads. Access management changes and other design features are also included to protect resources and facilitate management activities. The project is located in the Lake and Spar planning subunits on the Three Rivers Ranger District, Kootenai National Forest, Lincoln County, Montana, south of Troy, Montana.

Scoping Comment Date

Comments concerning the scope of the analysis must be received within 30 days from the date of publication in the Federal Register. Comments should be mailed to: Mike Herrin; District Ranger, Three Rivers Ranger District; 12858 U.S. Hwy 2; Troy, MT 59935, or e-mail: comments-northern-kootenai-three-rivers@fs.fed.us.

FOR FURTHER INFORMATION CONTACT: Contact Timory Peel, Project Team Leader, Three Rivers Ranger District, 12858 U.S. Hwy 2, Troy, MT 59935. Phone: (406) 295-4693.

SUPPLEMENTARY INFORMATION: The project area is south of Troy, Montana, in the Lake Creek watershed. The legal description includes Townships 28-31 North, Ranges 33-35 West, Lincoln County, Montana, and Township 57-58 North, Range 3 East, Bonner County, Idaho. The area supports many species of wildlife and fish. Most of the project area is within the Cabinet-Yaak Grizzly Bear Recovery zone. A separate population of bull trout inhabits the Lake Creek watershed.

The purpose and need for this project is to: (1) Contribute to the supply of the timber in the area by recovering economically valuable wood products using timber harvest strategies that: (a) Manage characteristic vegetation patterns, stand structure, patch sizes, and species composition, while reducing stand vulnerability to insects and diseases; (b) Reduce existing fuel loadings and stand densities, and promote fire resilient conditions to allow for future use of fire as a management tool; and (c) Enhance visual resources as seen from critical viewpoints. (2) Increase forage habitat for big-game and grizzly bears using timber harvest and prescribed fire, including maintaining huckleberry fields over time for wildlife forage and public use. (3) Reduce hazardous ladder fuels, surface fuels, and canopy densities in the vicinity of private property and associated access routes to provide for public and firefighter safety. (4) Reduce sediment delivery and risk of road failures in bull trout watersheds.

To meet this purpose and need this project proposes:

1. Approximately 700 acres of intermediate harvest and 710 acres of regeneration harvest. Approximately half of the harvest would be tractor yarded and half skyline yarded. This harvest would contribute approximately 8 million board feet (MMBF) or 16 hundred cubic feet (CCF) of timber products to the economy, and result in employment associated with timber sales and service contracts. Unit 13, an 11-acre unit, lies within the Cabinet Face West #670 Inventoried Roadless Area (IRA), and is included in this proposal for urban interface fuels reduction. This unit borders U.S. Highway 56 and is adjacent to a restaurant and tavern, and several residences.

2. It is estimated that four temporary roads totaling less than one mile would be utilized to accomplish this harvest and would be obliterated following activities. Approximately 71 miles of haul road would have State Best Management Practices applied for water quality protection.

3. The size of harvest openings created by even-aged silvicultural (regeneration harvest) in the Northern Region will be normally 40 acres or less. Creation of larger openings requires 60-day public review and Regional Forester approval (FSM 2471.1). There is potential that Units 12, 12A, and 14 would create an opening greater than 40 acres.

4. Fuels reduction along open travel routes is proposed on approximately 216 acres. This includes approximately 207 acres of slashing with hand piling and 9 acres of excavator piling.

5. Prescribed burning, is proposed on approximately 3,820 acres to accentuate existing openings, with a Maximum Allowable Area of approximately 8,016 identified to allow for some movement of fire outside the ignition zone. Low to moderate intensity fire would be expected within the ignition zones, with low intensity fire expected outside that zone.

6. Approximately 40 miles of road would be stabilized to reduce sediment delivery to streams. This includes removing wood/log or old metal stream crossing structures, installing waterbars, and/or removing unstable fill material. Of this 40 miles, approximately 36 miles were identified in the Travel Analysis as needed for long-term management of the National Forest so would be put in intermittent stored service; approximately 4 miles identified as not needed would be decommissioned. All road decommissioning and intermittent stored service work is proposed on roads currently closed to motor vehicle access. Coordination with recreational users (snowmobiles, mountain bikers, hikers, and stock users) would be ongoing through analysis and implementation to maintain popular access routes. These activities and the Best Management Practices work will require an SPA 124/318 permit from the Montana Department of Environment Quality and a Nationwide 404 Permit from the Army Corps of Engineers.

7. Design features and mitigations are included to maintain and protect resource values.

Range of Alternatives

The Forest Service will consider a range of alternatives. One of these will be the ``no action'' alternative in which none of the proposed activities will be implemented. Preliminary analysis identified two issues with the proposed action: (1) Effects to Big Game Habitat and (2) Mechanical Equipment in the IRA. An alternative responding to these issues would be included in the analysis. Additional alternatives may be included to respond to the scoping issues and other resource values.

Public Involvement and Scoping

The public is encouraged to take part in the process and to visit with Forest Service officials at any time during the analysis and prior to the decision. The Forest Service has sought and will continue seeking information, comments, and assistance from Federal, State, and local agencies, Tribal governments, and other individuals or organizations that may be interested in, or affected by, the proposed action. It is expected that formal consultation with the U.S. Fish and Wildlife Service will occur for this project regarding the potential impacts to endangered species. This input will be used in preparation of the draft and final EIS. The scoping process includes:

1. Identifying potential issues.

2. Identifying major issues to be analyzed in depth.

3. Identifying alternatives to the proposed action.

4. Exploring additional alternatives that will be derived from issues recognized during scoping activities.

5. Identifying potential environmental effects of this proposal (i.e., direct, indirect, and cumulative effects and connected actions).

Estimated Dates for Filing

The draft EIS is expected to be filed with the Environmental Protection agency (EPA) and to be available for public review in February 2010. At that time EPA will publish a Notice of Availability of the draft EIS in the Federal Register. The comment period on the draft EIS will be 45 days from the date the EPA publishes the Notice of Availability in the Federal Register. It is very important that those interested in the management of this area participate at that time.

The final EIS is scheduled to be completed in April 2010. In the final EIS, the Forest Service is required to respond to comments and responses received during the comment period that pertain to the environmental consequences discussed in the draft EIS and to applicable laws, regulations, and policies considered in making a decision regarding the proposal.

Reviewer's Obligations

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review. Comments received in response to this solicitation, including names and addresses of those who comment, will be part of the public record for this proposed action. Comments submitted anonymously will be accepted and considered; however, anonymous comments will not provide the respondent with standing to participate in subsequent administrative review or judicial review.

Responsible Official

Paul Bradford, Forest Supervisor of the Kootenai National Forest, 31374 U.S. Highway 2, Libby, MT 59923-3022, is the Responsible Official for this project. The Responsible Official decides if the proposed project will be implemented, and documents the decision and reasons for the decision in the Record of Decision. The responsibility for preparing the DEIS and FEIS is delegated to Mike Herrin, District Ranger, Three Rivers Ranger District.

Dated: December 18, 2009.
C. Quinn Carver,
Acting for Forest Supervisor Paul Bradford, Kootenai National Forest.

[FR Doc. E9-30740 Filed 12-30-09; 8:45 am]

BILLING CODE 3410-11-M